DEPARTMENT OF THE INTERIOR

National Park Service

[NPS-WASO-NAGPRA-NPS0033621; PPWOCRADN0-PCU00RP14.R50000]

Notice of Intent To Repatriate Cultural Items: U.S. Department of the Interior, Bureau of Indian Affairs, Washington, DC

AGENCY: National Park Service, Interior.

ACTION: Notice.

SUMMARY: The U.S. Department of the Interior, Bureau of Indian Affairs (BIA), in consultation with the appropriate Indian Tribes or Native Hawaiian organizations, has determined that the cultural items listed in this notice meet the definition of unassociated funerary objects. Lineal descendants or representatives of any Indian Tribe or Native Hawaiian organization not identified in this notice that wish to claim these cultural items should submit a written request to the BIA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the BIA at the address in this notice by April 22, 2022.

FOR FURTHER INFORMATION CONTACT: Dr. BJ Howerton, NAGPRA Coordinator, Bureau of Indian Affairs, 1001 Indian School Road NW, Room 341, Albuquerque, NM 87104, telephone (505) 563-3013, email BJ.Howerton@bia.gov.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, and in the physical custody of the Arizona State Museum, University of Arizona, Tucson, AZ (ASM), that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1963 and 1977, 40 cultural items were removed from site AZ P:14:1(ASM), also known as the Grasshopper Pueblo, in Navajo County, AZ. The items were removed during legally authorized excavations conducted by the University of Arizona Archeological Field School. Archeological collections from the site were brought to ASM at the end of each field season and accessioned. The 40 unassociated funerary objects are 39 tree ring samples and one piece of mineral pigment.

Site AZ P:14:1(ASM) is a large village site containing approximately 500 rooms in more than a dozen stone room blocks arranged around three main plazas. The site has been dated to A.D. 1275-1400 based on tree ring dates, architectural forms, building technology, and ceramic styles. These characteristics, the mortuary pattern, and other items of material culture are consistent with the archeologically described Upland Mogollon or prehistoric Western Pueblo tradition.

In the summers of 1939 and 1940, 136 cultural items were removed from site AZ P:16:1(ASM), also known as Bear Ruin, in Navajo County, AZ. These excavations were legally authorized and carried out by Emil Haury under the auspices of ASM and the Department of Anthropology at the University of Arizona. Archeological collections from Haury's excavations were brought to ASM at the end of each field season and accessioned. The 136 unassociated funerary objects are one bone awl, two bone awl fragments, one incised bone, 39 ceramic bowls, one ceramic canteen, one ceramic disc, five ceramic vessel fragments, one human figurine fragment, 25 ceramic jars, six miniature vessels, seven ceramic pitchers, eight sherds, 18 pieces of mineral concretion or pigment, one piece of unfired clay, two turquoise beads, three turquoise pendants, 14 shell bracelet fragments, and one shell necklace.

Site AZ P:16:1(ASM) consists of 14 houses, two storage rooms, and a kiva. The site has been dated to A.D. 600-800 based on ceramic styles, architectural forms, and tree-ring data. These characteristics, the mortuary pattern, and other items of material culture are consistent with the Mogollon archeological tradition.

In the summers of 1940 and 1941, 63 cultural items were removed from site AZ P:16:2(ASM), also known as Tla Kii, in Navajo County, AZ. These excavations were legally authorized and carried out by Emil Haury under the auspices of ASM and the Department of Anthropology at the University of Arizona. Archeological collections from Haury's excavations were brought to ASM at the end of each field season and accessioned. The 63 unassociated funerary objects are 32 ceramic bowls, one ceramic canteen, three ceramic vessel fragments, one human figurine fragment, seven ceramic jars, one miniature vessel, three ceramic pitchers, one ceramic plate, one ceramic scoop, one ceramic scraper, one sherd, two lithic scrapers, one piece of mineral concretion, six lots of stone beads, and two turquoise pendants.

Site AZ P:16:2(ASM) consists of three pit houses, one storage structure, two other structures, a main pueblo, two kivas, and 14 storage pits. Based on architectural forms and ceramic styles, along with other items of material culture, the site is dated to A.D. 900-1200, and it is associated with the Mogollon archeological tradition.

In the summers of 1941 and 1944, one cultural item was removed from site AZ P:16:20(ASM), also known as Bluff Site, in Navajo County, AZ. These excavations were legally authorized and carried out by Emil Haury under the auspices of ASM and the Department of Anthropology at the University of Arizona. Archeological collections from Haury's excavations were brought to ASM at the end of each field season. Collections were not accessioned upon receipt at ASM; an accession of “none 1940s” was later assigned. The one unassociated funerary object is a ceramic bowl.

Site AZ P:16:20(ASM) comprises a pit house village dating to the Cottonwood and Hilltop phases of the Mogollon archeological culture, and it dates to A.D. 200-600 based on architectural forms and tree-ring samples.

In the summer of 1966, three cultural items were removed from site AZ P:16:62(ASM), also known as Skiddy Canyon Ruin, in Navajo County, AZ. These excavations were legally authorized and were carried out in conjunction with the ASM and the Museum of Northern Arizona under the direction of Laurens Hammack of ASM as part of the Highway Salvage program of the Arizona Highway Department (project no. F-026-1[17]). Archeological collections from these excavations were transferred to ASM in March of 1967. The three unassociated funerary objects are one ceramic pitcher, one ceramic jar, and one shell bead.

Site AZ P:16:62(ASM) consists of a pit house, kiva, eight-room pueblo, and associated trash areas. Based on architectural forms and ceramic styles, along with other items of cultural belongings, the site dates to A.D. 600-1200, and it is associated with the Mogollon archeological tradition.

A detailed discussion of the basis for cultural affiliation of archeological sites in the region where the above sites are located may be found in “Cultural Affiliation Assessment of White Mountain Apache Tribal Lands (Fort Apache Indian Reservation)” by John R. Welch and T.J. Ferguson (2005). To summarize, archeologists have used the terms Upland Mogollon or prehistoric Western Pueblo to define the archeological complex represented by the above-described sites. The material culture of these traditions is characterized by a temporal progression from earlier pit houses to later masonry pueblos, villages organized in room blocks of contiguous dwellings associated with plazas, rectangular kivas, polished and paint decorated ceramics, unpainted corrugated ceramics, weaving traditions, inhumation burials, cradleboard cranial deformation, grooved stone axes, and bone artifacts. Archeologists have long linked the Western Pueblo tradition to present-day Indian Tribes in the region belonging to the Western Pueblo ethnographic group and in particular, to the Hopi Tribe of Arizona and the Zuni Tribe of the Zuni Reservation, New Mexico. The similarities in ceramic traditions, burial practices, architectural forms, and settlement patterns have led archeologists to believe that the prehistoric inhabitants of the Mogollon Rim region migrated north and west to the Hopi mesas, and north and east to the Zuni River Valley. Certain objects found in Upland Mogollon archeological sites have been found to have strong resemblances with ritual paraphernalia that are used in continuing religious practices by the Hopi and Zuni. Some of the petroglyphs on the Fort Apache Indian Reservation have also persuaded archeologists of continuities between the earlier identified group and current-day Western Pueblo people. Biological information from site AZ P:14:1(ASM) supports the view that the prehistoric occupants of the Upland Mogollon region had migrated from various locations to the north and west of the region.

Hopi and Zuni oral traditions parallel the archeological evidence for migration. Migration figures prominently in Hopi oral tradition, which refers to the ancient sites, pottery, stone tools, petroglyphs, and other artifacts left behind by the ancestors as “Hopi Footprints.” This complex and detailed migration history includes traditions that relate specific clans to the Mogollon region. Hopi cultural advisors have also identified medicinal and culinary plants at archeological sites in the region. According to them, knowledge about these plants had been passed down from the ancestors who inhabited these ancient sites. Migration is also an important attribute of Zuni oral tradition. That tradition includes accounts of Zuni ancestors passing through the Upland Mogollon region. The ancient villages mark the routes of these migrations. According to Zuni cultural advisors, the ancient sites were not abandoned. Rather, people returned to them from time to time, either for the purpose of reoccupying them or for religious pilgrimages—a practice that has continued to the present day. Archeologists have found ceramic evidence at shrines in the Upland Mogollon region that confirms these reports. Zuni cultural advisors have names for plants endemic to the Mogollon region that do not grow on the Zuni Reservation. They also have knowledge about traditional medicinal and ceremonial uses for these resources, which has been passed down to them from their ancestors. Furthermore, Hopi and Zuni cultural advisors have recognized that their ancestors may have been co-resident at some of the sites in this region during their ancestral migrations.

There are differing points of view regarding the possible presence of Apache people in the Upland Mogollon region during the time that these sites were occupied. Some Apache traditions describe interactions with Ancestral Pueblo people during this time, but according to these stories, Puebloan people and Apache people were regarded as having separate identities. The White Mountain Apache Tribe of the Fort Apache Reservation, Arizona does not claim to be culturally affiliated with the human remains and associated funerary objects from this site. As reported by Welch and Ferguson (2005), consultations between the Pueblo of Acoma, New Mexico; Pueblo of Laguna, New Mexico; Navajo Nation, Arizona, New Mexico, & Utah; and the White Mountain Apache Tribe of the Fort Apache Reservation, Arizona have indicated that none of these Indian Tribes wishes to assert a cultural affiliation with sites on White Mountain Apache Tribal lands. Finally, the White Mountain Apache Tribe of the Fort Apache Reservation, Arizona supports the repatriation of any human remains and associated funerary objects from these sites, and it is ready to assist the Hopi Tribe of Arizona and Zuni Tribe of the Zuni Reservation, New Mexico in their reburial.

Determinations Made by the U.S. Department of the Interior, Bureau of Indian Affairs

Officials of the U.S. Department of the Interior, Bureau of Indian Affairs have determined that:

• Pursuant to 25 U.S.C. 3001(3)(B), the 243 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona and the Zuni Tribe of the Zuni Reservation, New Mexico (hereafter referred to as “The Tribes”).

Additional Requestors and Disposition

Lineal descendants or representatives of any Indian Tribe or Native Hawaiian organization not identified in this notice that wish to claim these cultural items should submit a written request with information in support of the claim to Dr. BJ Howerton, NAGPRA Coordinator, Bureau of Indian Affairs, 1001 Indian School Road NW, Room 341, Albuquerque, NM 87104, telephone (505) 563-3013, email BJ.Howerton@bia.gov, by April 22, 2022. After that date, if no additional claimants have come forward, transfer of control of the unassociated funerary objects to The Tribes may proceed.

The U.S. Department of the Interior, Bureau of Indian Affairs, with the assistance of the Arizona State Museum, is responsible for notifying The Tribes that this notice has been published.

Dated: March 17, 2022.
Melanie O'Brien,
Manager, National NAGPRA Program.

[FR Doc. 2022-06129 Filed 3-22-22; 8:45 am]

BILLING CODE 4312-52-P